DEPARTMENT OF COMMERCE

Patent and Trademark Office

[Docket No.: PTO-P-2022-0001]

Expanded Collaborative Search Pilot Program—New Combined Petition Option For Participation; Withdrawal

AGENCY: United States Patent and Trademark Office, Department of Commerce.

ACTION: Notice; withdrawal.

SUMMARY: On March 29, 2022, the United States Patent and Trademark Office (USPTO) published a Federal Register Notice concerning a new petition option for participation in the Expanded Collaborative Search Pilot (CSP) Program. The notice is hereby withdrawn.

DATES: The document published at 87 FR 17995 on March 29, 2022, is withdrawal as of April 12, 2022.

FOR FURTHER INFORMATION CONTACT: Please direct inquiries regarding any specific application participating in the pilot to Jessica Patterson; Senior Advisor and Director; International Worksharing, Planning, and Implementation; Office of International Patent Cooperation; at 571-272-8828 or Jessica.Patterson@uspto.gov. Please send any inquiries regarding this pilot program and the petition process to csp@uspto.gov. Please direct inquiries concerning this notice to Michael Arguello; Management and Program Analyst; International Worksharing, Planning, and Implementation; Office of International Patent Cooperation; at 571-270-7876 or Michael.Arguello@uspto.gov.

SUPPLEMENTARY INFORMATION: On March 29, 2022, the USPTO published a Federal Register Notice concerning a new petition option for participation in the Expanded CSP Program. See Expanded Collaborative Search Pilot Program—New Combined Petition Option For Participation, 87 FR 17995. The USPTO inadvertently submitted the notice for publication prematurely. Discussions are continuing with our counterpart offices (the Japan Patent Office and the Korean Intellectual Property Office) to finalize the program's new petition option. Therefore, the USPTO hereby withdraws the notice. The USPTO looks forward to completing its discussions and publishing a forthcoming notice announcing the effective date and details of the new petition option.

Andrew Hirshfeld,
Commissioner for Patents, Performing the Functions and Duties of the Under Secretary of Commerce for Intellectual Property and Director of the United States Patent and Trademark Office.

[FR Doc. 2022-07909 Filed 4-11-22; 8:45 am]

BILLING CODE 3510-16-P